FEDERAL COMMUNICATIONS COMMISSION

47 CFR Parts 2 and 90

[ET Docket No. 00-221; FCC 00-395]

Reallocation of 27 MHz of Spectrum

AGENCY: Federal Communications Commission.

ACTION: Proposed rule.

SUMMARY: This document proposes to reallocate a total of 27 megahertz of spectrum transferred from Federal Government use for non-Government services pursuant to the Omnibus Budget Reconciliation Act of 1993 and the Balanced Budget Act of 1997. These actions and proposals will benefit consumers by permitting and encouraging the introduction of new wireless technologies. This document also proposes procedures for the reimbursement of Federal incumbents for relocation pursuant to statutory requirements.

DATES: Comments must be submitted on or before February 22, 2001, and reply comments on or before March 26, 2001.

ADDRESSES: All filings must be sent to the Commission's Secretary, Magalie Roman Salas, Office of Secretary, Federal Communications Commission, 445 12th Street, SW., TW-A325, Washington, DC 20554.

FOR FURTHER INFORMATION CONTACT: Tom Mooring, Office of Engineering and Technology, (202) 418-2450.

SUPPLEMENTARY INFORMATION: This is a summary of the Commission's Notice of Proposed Rule Making, ET Docket 00-221, FCC 00-395, adopted November 1, 2000, and released November 20, 2000. The full text of this Commission decision is available on the Commission's Internet site, at http://www.fcc.gov. It is also available for inspection and copying during normal business hours in the FCC Reference Information Center, Room CY-A257, 445 12th Street, SW., Washington, DC, and also may be purchased from the Commission's duplication contractor, International Transcription Service, (202) 857-3800, 1231 20th Street, NW., Washington, DC 20036. Comments may be sent as an electronic file via the Internet to http://www.fcc.gov/e-file/ecfs.html, or by e-mail to ecfs@fcc.gov.

Summary of the Notice of Proposed Rule Making

1. The Notice of Proposed Rule Making (“NPRM”) proposes to allocate a total of 27 megahertz of spectrum from the 216-220 MHz, 1390-1395 MHz, 1427-1429 MHz, 1429-1432 MHz, 1432-1435 MHz, 1670-1675 MHz, and 2385-2390 MHz bands transferred from Government to non-Government use pursuant to the provisions of the Omnibus Budget Reconciliation Act of 1993 (OBRA-93) and the Balanced Budget Act of 1997 (BBA-97). These seven bands have a variety of continuing Government protection requirements and incumbent Government and non-Government uses. Despite these constraints and the relatively narrow bandwidth contained in each of the bands, we believe that the proposals presented will foster a variety of potential applications in both new and existing services. The transfer of these bands to non-Government use should enable the development of new technologies and services, provide additional spectrum relief for congested private land mobile frequencies, and fulfill our obligation as mandated by Congress to assign this spectrum for non-Government use. The NPRM also requests comments on procedures for the reimbursement of relocation costs incurred by incumbent Federal Government users as mandated by the National Defense Authorization Act of 1999. Of the bands considered in this proceeding, the 216-220 MHz, 1432-1435 MHz, and 2385-2390 MHz bands are subject to competitive bidding and reimbursement of Federal incumbents.

216-220 MHz Band

2. We propose to allocate the 216-220 MHz band generally to the fixed (FS, Base Station Only) and mobile services (MS, except aeronautical mobile) on a co-primary basis. We further propose to require that any MS licensees that may be licensed in the band use the 216-218 MHz segment for base station transmit and the 218-220 MHz segment for mobile station transmit, in order to minimize the likelihood of interference to television channel 13 reception. As requested by NTIA, we also propose to remove the Wildlife and Ocean Tracking allocation from this band. We request comment on these proposals. The 216-220 MHz band is heavily encumbered by incumbent services. Because of the limited Government use of the band, there is relatively little new capacity, which is likely to be made available by vacation of the band by Government operations. Given the significant constraints on additional use of the 216-220 MHz band, however, it is unclear how this band might accommodate additional services and how we might further assign licenses in this spectrum. Accordingly, we invite comment on how we should proceed. We also invite comment on our tentative conclusion that we have fulfilled the requirement of BBA-97 to assign licenses in the 216-220 MHz band consistent with Section 309(j) of the Communications Act.

3. We request comment on the best way to continue the viability of incumbent, non-Government services in the band, if we were to license new primary services. We seek to avoid any detrimental impact on the many valuable incumbent services operating in this spectrum, including auditory assistance devices, the LPRS, the Amateur Service, and telemetry. We invite comment as to whether any of the existing secondary services operating in this spectrum should be elevated to primary status. For those entities proposing new services, we also request recommendations for technical and service rules, such as geographic service area, transmitter output power and out-of-band emissions, which may be appropriate for any new services.

1.4 GHz Band

4. We address the 13 megahertz of spectrum in the four segments at 1390-1395 MHz, 1427-1429 MHz, 1429-1432 MHz, and 1432-1435 MHz bands collectively as the “1.4 GHz spectrum.” Several options for band pairing or allocation of multiple bands in this spectrum have been presented to us. We believe that it may be possible to combine some of these bands to maximize the potential services that can be provided to the public. We note that there is insufficient spectrum available to accommodate all of the petitions and requests before the Commission for the spectrum at 1.4 GHz. Our objective is to ensure that the available spectrum is put to the best use and that this spectrum is allocated consistent with the spectrum management principles set forth in our Spectrum Policy Statement. We invite comment on how we should allocate the 1.4 GHz spectrum to achieve this goal, given the requests that have been submitted. To facilitate meaningful comment, we have present the proposals submitted as well as several additional options for the allocation of the 1.4 GHz spectrum, see paragraphs 24 through 37 of the NPRM. We request comment on the options, and on any other possible allocation schemes for the 1.4 GHz bands.

5. Parties advocating specific services for this spectrum are also encouraged to submit specific suggestions with regard to service rules to govern these services. We solicit comment on ways spectrum for services might be auctioned, including the license areas and spectrum blocks. We also request recommendations for technical rules, such as power and out-of-band emissions limits, which may be appropriate for any new services. In cases where commenters advocate allocating additional spectrum for current services, we seek comment on whether we should adopt new rules for these bands, or simply extend the current rules to apply to the 1.4 GHz spectrum. We also solicit comment as to the Commission rule parts under which any new services might be regulated. We request comment on what other service rules, such as, inter alia, eligibility and license requirements, we should adopt for services in the 1.4 GHz spectrum.

1670-1675 MHz Band

6. We propose to allocate the band to FS and MS (except aeronautical mobile), and to adopt technical rules that make the band usable for a number of potential services, and other fixed and mobile services applications. We believe that an auction of this spectrum may be the best way to ensure that it is assigned to the best value use that is consistent with the protection of co-channel Government and adjacent-channel radio astronomy operations.

7. Commenters are requested to recommend technical rules, with particular attention to protection of radio astronomy operations in the adjacent 1650-1670 MHz band. Commenters should specify what power limits they believe would protect Government and radio astronomy operations, along with measures they would recommend to provide the needed protection. We solicit comment on license areas and spectrum blocks. We also solicit comment as to the Commission rule part or parts under which new services in this band should be regulated, and on other service rules for operations in the band.

2385-2390 MHz Band

8. New licensees will need to protect grandfathered Government sites from interference in the 2385-2390 MHz band. NTIA also notes that commercial receiver and transmitter standards must be established to reduce the potential for mutual interference with airborne systems operating in the adjacent band. The Commission has generally refrained from imposing receiver standards, preferring to let market forces determine equipment specifications. We seek comment on NTIA's determination that receiver and transmitter standards are required. We also request comment on whether non-Government aeronautical telemetry for flight testing of piloted and remotely or automatically controlled aircraft, missiles, or other components thereof, exist outside of the 17 sites identified by NTIA.

9. While the 2385-2390 MHz band is allocated on a primary basis for both Government and non-Government aeronautical telemetry, we are uncertain of how much of this band is used for aeronautical telemetry, and of how many licensees use this service. We seek comment on the use of this band for aeronautical telemetry, and how such use may be preserved as new services enter the band. Commenters are invited to address the possibility of moving aeronautical telemetry to another spectrum band, reducing its status to secondary, or providing protection for telemetry in limited areas of the United States.

10. We propose to allocate the 2385-2390 MHz band to FS and MS generally, and allow flexible use of the band, within the technical rules we adopt. We request comment on this proposal, especially on whether we should allocate this band more narrowly. We seek comment on service and auction rules for the 2385-2390 MHz band. Commenters are requested to provide recommendations on power limits, out-of-band emission limits, and other technical rules. We also solicit comment on service rules governing licensing, service areas, permissible communications, and what part of our rules should govern the band. Finally, we request comment on any other service rules that commenters think appropriate for regulating services in the band. We request that commenters explain how their proposed rules will maximize efficiency of use of the band.

Government Incumbents

11. We also propose to effect the transfer of the 27 megahertz of Government spectrum identified in this proceeding by deleting the Government allocations from the Table of Frequency Allocations in coordination with NTIA. We propose to add footnotes to the Table of Frequency Allocations, noting that the bands addressed here will remain allocated to Government operations until the dates that the various bands will be transferred. NTIA has also advised the Commission of consequential changes to certain Government footnotes. We request comment on whether this is the appropriate method for reflecting the reallocations proposed in this proceeding.

12. We specifically seek comment from Indian Tribal governments. The Commission is committed to (1) working with Indian tribes on a government-to-government basis to ensure that Indian tribes have adequate access to communications services, and (2) consulting with Tribal governments prior to implementing any regulatory action or policy that will significantly affect tribal governments, their land, and resources. We welcome the opportunity to consult with tribal governments on the issues raised by this NPRM, and we seek comment both from tribal governments and other interested parties on the potential for the spectrum proposals set forth herein to serve the communications needs of tribal communities.

13. We proposed that licensees planning to construct facilities within a protection zone be required to submit data to the Commission to allow coordination of their facilities. For each site requiring prior coordination, the licensee would be required to notify the Government facility within the coordination zone, via the Universal Licensing System (“ULS”), of each proposed new facility that it planned to construct, providing technical data including latitude, longitude, station type, frequency range, antenna height, power, and types of emissions. Licensees would not be permitted to operate such facilities within the coordination zone until they obtain a response from the Commission indicating that there are no objections from the Government. We seek comment on using this same proposed coordination proposal for the bands addressed here. We request comment on this proposal or alternate procedures that provide the best method for ensuring protection for these Government services when new services begin operations. Commenters are invited to suggest solutions on these and any other options they may devise. Perhaps coordination would be sufficient to allow new non-Government operations to share spectrum with Government operations. Commenters are specifically requested to address protection of Government services in each of the bands at issue here, as we doubt that a single solution will be the best method for ensuring maximum flexibility and utility of the bands, while at the same time providing the necessary protection for Government operations.

14. The Strom Thurmond National Defense Authorization Act for Fiscal Year 1999 (NDAA-99) requires that new entrants reimburse incumbent Federal users for the costs of relocation. Specifically, NDAA-99 required that “[a]ny person on whose behalf a Federal entity incurs costs * * * shall compensate the Federal entity in advance for such costs. Such compensation may take the form of a cash payment or in-kind compensation. In the NPRM in paragraphs 60 through 63, we make proposals for how best to carry out the statutory requirements. Recognizing important National Security concerns, separate procedures are proposed for unclassified and classified or sensitive Government facilities. We request comment on these proposals. Specifically, we seek comment on what relocation information is necessary for the FCC to hold a viable auction and for potential bidders to formulate bidding strategies. Commenters are invited to suggest additional information or information formats that would be of benefit to them in determining their bidding strategies. Commenters should explain how their suggestions provide the information necessary for bidders to plan their strategies and expenditures.

15. In accordance with the provisions of BBA-97, we propose to require any new licensee that has relocated a Government facility to either remedy any defects of the new facilities, or pay to relocate the Government facility back to its original facilities or frequencies in any case where a Government entity's new facilities are not comparable. We propose to use our existing rules as a basis for defining comparable facilities of communications systems. Thus, we propose to define comparable facilities of communications systems for purposes of BBA-97, see paragraphs 64 through 66 of the NPRM.

Initial Regulatory Flexibility Analysis

16. As required by the Regulatory Flexibility Act (RFA)¹ the Commission has prepared this present Initial Regulatory Flexibility Analysis (IRFA) of the possible significant economic impact on small entities by the policies and rules proposed in this Notice of Proposed Rule Making (NPRM). Written public comments are requested on this IRFA. Comments must be identified as responses to the IRFA and must be filed by the deadlines for comments on the Notice of Proposed Rule Making provided in paragraph 60 of the NPRM. The Commission will send a copy of the Notice of Proposed Rule Making including this IRFA, to the Chief Counsel for Advocacy of the Small Business Administration. See 5 U.S.C. 603(a). In addition, the Notice of Proposed Rule Making and IRFA will be published in the Federal Register.

¹ See 5 U.S.C. 603, The RFA, see 5 U.S.C. 601 et. seq., has been amended by the Contract With America Advancement Act of 1996, Public Law 104-121, 110 Stat. 847 (1996) (CWAAA). Title II of the CWAAA is the Small Business Regulatory Enforcement Fairness Act of 1996 (SBREFA).

A. Need for, and Objectives of, the Proposed Rules

17. We proposed to allocate a total of 27 megahertz of spectrum from the 216-220 MHz, 1390-1395 MHz, 1427-1429 MHz, 1429-1432 MHz, 1432-1435 MHz, 1670-1675 MHz, and 2385-2390 MHz, bands transferred from Government to non-Government use pursuant to the provisions of the Omnibus Budget Reconciliation Act of 1993 and the Balanced Budget Act of 1997. These seven bands have a variety of continuing Government protection requirements and incumbent Government and non-Government uses. Despite these constraints and the relatively narrow bandwidth contained in each of the bands, we believe that the proposals presented will foster a variety of potential applications in both new and existing services. The transfer of these bands to non-Government use should enable the development of new technologies and services, provide additional spectrum relief for congested private land mobile frequencies, and fulfill our obligations as mandated by Congress to assign this spectrum for non-Government use.

18. This NPRM proposes general Fixed Service and Mobile Service allocation for each of the bands addressed, and asks questions about other possible allocations. The Notice also solicits comment on potential service rules for the services to which the bands may be allocated.

B. Legal Basis

19. This action is taken pursuant to Sections 4(i), 7(a), 303(c), 303(f), 303(g), and 303(r) of the Communications Act of 1934, as amended, 47 U.S.C. Sections 154(i), 157(a), 303(c), 303(f), 303(g), and 303(r).

C. Description and Estimate of the Number of Small Entities to Which the Proposed Rules Will Apply

20. The RFA directs agencies to provide a description of, and, where feasible, an estimate of the number of small entities that may be affected by the proposed rules, if adopted.² The RFA generally defines the term “small entity” as having the same meaning as the terms “small business,” “small organization,” and “small governmental jurisdictions.” In addition, the term “small business” has the same meaning as the term “small business concern” under the Small Business Act, 15 U.S.C. 632, unless the Commission has developed one or more definitions that are appropriate to its activities.³ A “small business concern” is one that: (1) Is independently owned and operated; (2) is not dominant in its field of operation; and (3) meets any additional criteria established by the Small Business Administration (“SBA”).⁴

² 5 U.S.C. 603(b)(3).

³ See 5 U.S.C. 601(3).

⁴ 15 U.S.C. 632.

21. A small organization is generally “any not-for-profit enterprise which is independently owned and operated and is not dominant in its field.” ⁵ Nationwide, as of 1992, there were approximately 275,801 small organizations.⁶ The definition of “small governmental jurisdiction” is one with populations of fewer than 50,000.⁷ There are 85,006 governmental jurisdictions in the nation.⁸ This number includes such entities as states, counties, cities, utility districts and school districts. There are no figures available on what portion of this number has populations of fewer than 50,000. However, this number includes 38,978 counties, cities and towns, and of those, 37,556, or 96 percent, have populations of fewer than 50,000.⁹ The Census Bureau estimates that this ratio is approximately accurate for all government entities. Thus, of the 85,006 governmental entities, we estimate that 96 percent, or about 81,600, are small entities that may be affected by our rules. Nationwide, there are 4.44 million small business firms, according to SBA reporting data.¹⁰

⁵ Id. section 601(4).

⁶ Department of Commerce, U.S. Bureau of the Census, 1992 Economic Census, Table 6 (special tabulation of data under contract to Office of Advocacy of the U.S. Small Business Administration).

⁷ 5 U.S.C. 601(5).

⁸ 1992 Census of Governments, U.S. Bureau of the Census, U.S. Department of Commerce.

⁹ Id.

¹⁰ See 1992 Economic Census, U.S. Bureau of the Census, Table 6 (special tabulation of data under contract to Office of Advocacy of the U.S. Small Business Administration).

22. The NPRM proposes to allocate 27 megahertz of spectrum, licenses in some of which will be assigned by auction, and licenses in some of which may be assigned by auctioned. The Notice proposes very broad allocations of this spectrum, and asks questions designed to produce public comment which will allow the Commission to allocate and authorize the spectrum to more narrow, specific services. The Commission has not yet determined or proposed how many licenses will be awarded, nor will it know how many licensees will be small businesses until auctions, if required, are held. In addition, at this point in the proceeding, the Commission does not know how many licensees may partition their license areas or disaggregate their spectrum blocks, if partitioning and disaggregation are allowed. We therefore assume that, for purposes of our evaluations and conclusions in the IRFA, all of the prospective licensees in the bands addressed in the Notice are small entities, as that term is defined by the SBA.

23. Incumbent services in the 216-220 MHz band, which the Notice proposes to allocate on a primary basis to the Fixed and Mobile Services, include the Automated Maritime Telecommunications Service (AMTS), telemetry users and Low Power Radio Service users. The Commission has defined small businesses in the AMTS as those businesses which, together with their affiliates and controlling interests, have not more than fifteen million dollars ($15 million) in the preceding three years. There are only three AMTS licensees, none of whom are small businesses. However, potential licensees in AMTS include all public coast stations, which are classified by the Small Business Administration as Radiotelephone Service Providers, Standard Industrial Classification Code 4812.¹¹ The Commission has defined a “small entity” public coast station as one employing no more than 1500 persons.¹² According to the 1992 Census of Transportation, Communications, and Utilities, there are a total of 1178 radiotelephone service providers, of whom only 12 had more than 1000 employees. Therefore, we estimate that at least 1166 small entities may be affected by the proposed rules.

¹¹ See 13 CFR 121.201.

¹² See Amendment of the Commission's Rules Concerning Maritime Communications, PR Docket No. 92-257, Third Report and Order and Memorandum Opinion and Order, 13 FCC Rcd 19853, (1998).

24. Users of telemetry are generally large corporate entities, such as utility companies, and it is unlikely that any of the users would be small businesses. The Low Power Radio Service permits licensees to use the 216-217 MHz segment for auditory assistance, medical devices, and law enforcement tracking devices. Users are likely to be theaters, auditoriums, churches, schools, banks, hospitals, and medical care facilities. The primary manufacturer of auditory assistance estimates that it has sold 25,000 pieces of auditory assistance equipment. Many if not most Low Power Radio Service licensees are likely to be small businesses. However, because the Low Power Radio Service is licensed by rule, with no requirement for individual license applications or documents, the Commission is unable to estimate how many small businesses use the Low Power Radio Service.

25. The incumbent service in the 1427-1429 MHz band is a telemetry licensee. The Commission has issued only one telemetry license in the band, and Itron, Inc., the licensee, with an investment of $100 million in equipment development, is not likely to be a small business.

26. The incumbent services in the 1429-1432 MHz band include utility telemetry, with Itron, Inc. as the only licensee, and medical telemetry. As stated above, Itron, Inc. is not likely to be a small business. Users of medical telemetry are hospitals and medical care facilities, some of which are likely to be small businesses.

27. According to the SBA's regulations, nursing homes and hospitals must have annual gross receipts of $5 million or less in order to qualify as a small business concern. There are approximately 11,471 nursing care firms in the nation, of which 7,953 have annual gross receipts of $5 million or less.¹³ There are approximately 3,856 hospital firms in the nation, of which 294 have gross receipts of $5 million or less. Thus, the approximate number of small confined setting entities to which the Commission's new rules will apply is 8,247.

¹³ See Small Business Administration Tabulation File, SBA Size Standards Table 2C, January 23, 1996, SBA, Standard Industrial Code (SIC) categories 8050 (Nursing and Personal Care Facilities) and 8060 (Hospitals). (SBA Tabulation File).

28. We invite comment on this analysis, particularly on the number of small businesses that are likely to be affected by these proposed rules. Commenters are invited to address how the proposed rules affect small businesses, and to suggest alternative rules.

D. Description of Projected Reporting, Recordkeeping, and Other Compliance Requirements

29. Entities interested in acquiring spectrum in the bands at issue in the Notice will be required to submit license applications and high bidders will be required to apply for their individual licenses. Additionally, new licensees will be required to file applications for license renewals and make certain other filings as required by the Communications Act. We request comment on how these requirements can be modified to reduce the burden on small entities and still meet the objectives of the proceeding.

E. Steps Taken To Minimize Significant Economic Impact on Small Entities, and Significant Alternatives Considered

30. In all of the bands where incumbent licensees exist, we have inquired whether we should elevate the status of the services in which the incumbents are licensed to primary. We have further discussed these services at some length, and have requested public comment on how we can accommodate incumbents in these bands during the reallocation process.

F. Federal Rules That May Duplicate, Overlap, or Conflict With the Proposed Rules

31. None.

List of Subjects

47 CFR Part 2

Communications equipment, Radio.

47 CFR Part 90

Communications equipment, Radio, Reporting and recordkeeping requirements.

Federal Communications Commission.
Magalie Roman Salas,
Secretary.

Rules Changes

For the reasons discussed in the preamble, the Federal Communications Commission proposes to amend 47 CFR Parts 2 and 90 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, is amended as follows:

a. Revise pages 23, 31, 42, 43, 47, 50, and 51 of the Table of Frequency Allocations.

b. Revise footnotes US210, US229, US276, US311, and US352; remove footnotes US274 and US317; and add footnotes USxxx, USyyy, and USzzz.

c. Revise footnotes G2, G27, G114, and G120; and remove footnote G123.

The revisions and additions read as follows:

§ 2.106 Table of Frequency Allocations.

* * * * *

BILLING CODE 6712-01-P

* * * * *

UNITED STATES (US) FOOTNOTES

* * * * *

US210 In the sub-band 40.66-40.7 MHz, frequencies may be authorized to Government and non-Government stations on a secondary basis for the tracking of, and telemetering of scientific data from, ocean buoys and wildlife. Operation in this sub-band is subject to the technical standards specified in: (a) Section 8.2.42 of the NTIA Manual for Government use, or (b) 47 CFR 90.248 for non-Government use.

* * * * *

US229 In the band 216-220 MHz, Government operations are on a non-interference basis to authorized non-Government operations and shall not hinder the implementation of any non-Government operations, except at the following space surveillance stations where Government operations are co-primary:

Transmit frequency of 216.98 MHz: Location | Transmit frequency of 216.98 MHz: North latitude/West longitude | Transmit frequency of 216.98 MHz: Protection radius (km) | Receive frequencies of 216.965-216.995 MHz: Location | Receive frequencies of 216.965-216.995 MHz: North latitude/West longitude | Receive frequencies of 216.965-216.995 MHz: Protection radius (km)
Lake Kickapoo, TX | 33°32′/098°45′ | 250 | San Diego, CA | 32°34′/116°58′ | 50
Jordan Lake, AL | 32°39′/086°15′ | 150 | Elephant Butte, NM | 33°26′/106°59′ | 50
Gila River, AZ | 33°06′/112°01′ | 150 | Red River, AR | 33°19′/093°33′ | 50
|  |  | Silver Lake, MO | 33°08′/091°01′ | 50
|  |  | Hawkinsville, GA | 32°17′/083°′ | 50
|  |  | Fort Stewart, GA | 31°58′/081°30′ | 50

US276 Except as otherwise provided for herein, use of the bands 2320-2345 MHz and 2360-2385 MHz by the mobile service is limited to aeronautical telemetering and associated telecommand operations for flight testing of manned or unmanned aircraft, missiles or major components thereof. The following four frequencies are shared on a co-equal basis by Government and non-Government stations for telemetering and associated telecommand operations of expendable and reusable launch vehicles whether or not such operations involve flight testing: 2332.5 MHz, 2364.5 MHz, 2370.5 MHz, and 2382.5 MHz. All other mobile telemetering uses shall be secondary to the above uses.

* * * * *

US311 Radio astronomy observations may be made in the bands 1350-1400 MHz and 4950-4990 MHz on an unprotected basis at certain radio astronomy observatories indicated below:

National Astronomy and Ionosphere Center, Arecibo, Puerto Rico | Rectangle between latitudes 17°30′N and 19°00′N and between longitudes 65°W and 68°00′W.
National Radio Astronomy Observatory, Socorro, New Mexico | Rectangle between laditudes 32°30′N and 35°30′N and between longitudes 106°00′W and 109 °00°′W.
National Radio Astronomy Observatory, Green Bank, West Virginia | Rectangle between latitudes 37°30′N and 39°15′N and between longitudes 78°30′W and 80°30′W.
National Radio Astronomy Observatory, Very Long Baseline Array Stations | 80 Kilomters (50 mile) radious centered on:
| Latitude (North) | Longitude (West)
Pie Town, NM | 34°18′ | 108°07′
Kitt Peak, AZ | 31°57′ | 111°37′
Los Alamos,NM | 35°47′ | 106°15′
Fort Davis, TX | 30°38′ | 103°57′
North Liberty, IA | 41°46′ | 91°34′
Brewster, WA | 48°08′ | 119°41′
Owens Valley, CA | 37°14′ | 118°17′
Saint Croix, VI | 17°46′ | 64°35′
Mauna Kea, HI | 19°48′ | 155°27′
Hancock, NH | 42°56′ | 71°59′

Every practicable effort will be made to avoid the assignment of frequencies in the bands 1350-1400 MHz and 4950-4990 MHz to stations in the fixed and mobile services that could interfere with radio astronomy observations within the geographic areas given above. In addition, every practicable effort will be made to avoid assignment of frequencies in these bands to stations in the aeronautical mobile service which operate outside of those geographic areas, but which may cause harmful interference to the listed observatories. Should such assignments result in harmful interference to these observatories, the situation will be remedied to the extent practicable.

* * * * *

US352 In the band 1427-1432 MHz, Government operations, except for medical telemetry operations in the sub-band 1429-1432 MHz, are on a non-interference basis to authorized non-Government operations and shall not hinder the implementation of any non-Government operations, except at the sites identified below where Government operations are co-primary until January 1, 2004:

Location | North latitude/West longitude | Radius | Location | North latitude/West longitude | Radius (km)
Patuxent River, MD | 38°17′/076°25′ | 70 | Mountain Home AFB, ID | 43°01′/115°50′ | 160
NAS Oceana, VA | 36°49′/076°02′ | 100 | NAS Fallon, NV | 39°24′/118°43′ | 100
MCAS Cherry Point, NC | 34°54′/076°52′ | 100 | Nellis AFB, NV | 36°14′/115°02′ | 100
Beaufort MCAS, SC | 32°26′/080°40′ | 160 | NAS Lemore, CA | 36°18′/119°47′ | 120
NAS Cecil Field, FL | 30°13′/081°52′ | 160 | Yuma MCAS, AZ | 32°39′/114°35′ | 160
NAS Whidbey IS., WA | 48°19′/122°24′ | 70 | China Lake, CA | 35°29′/117°16′ | 80
Yakima Firing Ctr AAF, WA | 46°40′/120°15′ | 70 | MCAS Twenty Nine Palms, CA | 34°15′/116°03′ | 80

* * * * *

USxxx In the band 1432-1435 MHz, Government operations are on a non-interference basis to authorized non-Government operations and shall not hinder the implementation of any non-Government operations, except at the sites identified below where Government operations are co-primary:

Location | North latitude/West longitude | Protection radius (km) | Location | North latitude/West longitude | Protection radius (km)
China Lake/Edwards AFB, CA | 35°29′/117°16′ | 100 | AUTEC | 24°30′/078°00′ | 80
White Sands Missile Range/Holloman AFB, NM | 32°11′/106°20′ | 160 | Beaufort MCAS, SC | 32°26′/080°40′ | 160
Utah Test and Training Range/Dugway Proving Ground, Hill AFB, UT | 40°57′/113°05′ | 160 | MCAS Cherry Point, NC | 34°54′/076°53′ | 100
Patuxent River, MD | 38°17′/076°24′ | 70 | NAS Cecil Field, FL | 30°13′/081°52′ | 160
Nellis AFB, NV | 37°29′/114°14′ | 130 | NAS Fallon, NV | 39°30′/118°46′ | 100
Fort Huachuca, AZ | 31°33′/110°18′ | 80 | NAS Oceana, VA | 36°49′/076°01′ | 100
Eglin AFB/Gulfport ANG Range, MS/Fort Rucker, AL | 30°28′/086°31′ | 140 | NAS Whidbey Island, WA | 48° 21′/122°39′ | 70
Yuma Proving Ground, AZ | 32°29′/114°20′ | 160 | NCTAMS, GUM | 13°35′/144°51′ East | 80
Fort Greely, AK | 63°47′/145°52′ | 80 | Lemoore, CA | 36°20′/119°57′ | 120
Redstone Arsenal, AL | 34°35′/086°35′ | 80 | Savannah River, SC | 33°15′/081°39′ | 3
Alpene Range, MI | 44°23′/083°20′ | 80 | Naval Space Operations Center, ME | 44°24′/068°01′ | 80
Camp Shelby, MS | 31°20′/089°18′ | 80

USyyy In the band 1670-1675 MHz, Government operations are on a non-interference basis to authorized non-Government operations and shall not hinder the implementation of any non-Government operations, except that the Geostationary Orbit Environmental Satellite receiving earth station at Wallops Island, VA (37° 56′ 47” N, 75° 27′ 37” W) operates on a co-primary basis.

USzzz Until January 1, 2005, the band 2385-2390 MHz is also allocated to the Government mobile and radiolocation services on a co-primary basis and to the Government fixed service on a secondary basis. Use of the mobile service is limited to aeronautical telemetry and associated telecommand operations for flight testing of manned or unmanned aircraft, missiles or major components thereof. Use of the radiolocation service is limited to the military services. On January 1, 2005, Government operations in the band 2385-2390 MHz shall be on a non-interference basis to authorized non-Government operations and shall not hinder the implementation of any non-Government operations, except at the sites identified below where Government operations are co-primary until January 1, 2007:

Location | North latitude/West longitude | Protection radius (km) | Location | North Latitude/West longitude | Protection radius (km)
Yuma Proving Ground, AZ | 32°54′/114° 20′ | 160 | Palm Beach County, FL | 26°54′/080°19′ | 160
Nellis AFB, NV | 37°48′/116°28′ | 160 | Barking Sands, HI | 22°07′/159°40′ | 160
White Sands Missile Range, NM | 32°58′/106°23′ | 160 | Roosevelt Roads, PR | 18°14′/065°38′ | 160
Utah Test Range, UT | 40°12′/112°54′ | 160 | Glasgow, MT | 48°25′/106°32′ | 160
China Lake, CA | 35°40′/117°41′ | 160 | Edwards AFB, CA | 34°54′/117°53′ | 100
Eglin AFB, FL | 30°30′/086°30′ | 160 | Patuxent River, MD | 38°17′/076°25′ | 100
Cape Canaveral, FL | 28°33′/080°34′ | 160 | Witchita, KS | 37°40′/097°26′ | 160
Seattle, WA | 47°32′/122°18′ | 160 | Roswell, NM | 33°18′/104°32′ | 160
St. Louis, MO | 38°45′/090°22′ | 160

* * * * *

Federal Government (G) Footnotes

* * * * *

G2 In the bands 220-225 MHz, 420-450 MHz (except as provided by US217), 890-902 MHz, 928-942 MHz, 1300-1390 MHz, 2310-2385 MHz, 2417-2450 MHz, 2700-2900 MHz, 5650-5925 MHz, and 9000-9200 MHz, the Government radiolocation service is limited to the military services.

* * * * *

G27 In the bands 255-328.6 MHz, 335.4-399.9 MHz, and 1350-1390 MHz, the fixed and mobile services are limited to the military services.

* * * * *

G114 The band 1369.05-1390 MHz is also allocated to the fixed-satellite service (space-to-Earth) and to the mobile-satellite service (space-to-Earth) on a primary basis for the relay of nuclear burst data.

* * * * *

G120 Development of airborne primary radars in the band 2310-2385 MHz with peak transmitter power in excess of 250 watts for use in the United States is not permitted.

* * * * *

PART 90—PRIVATE LAND MOBILE RADIO SERVICES

3. The authority citation for part 90 continues to read as follows:

Authority: Sections 4(i), 11, 303(g), 303(r), and 302(c)(7) of the Communications Act of 1934, as amended, 47 U.S.C. 154(i), 161, 303(g), 303(r), 332(c)(7).

4. Section 90.248 is amended by revising paragraph (a) and removing and reserving paragraph (e)(2) to read as follows:

§ 90.248 Wildlife and ocean buoy tracking.

(a) The frequency band 40.66-40.7 MHz may be used for the tracking of, and the telemetry of scientific data from, ocean buoys and animal wildlife.

* * * * *

[FR Doc. 01-899 Filed 1-22-01; 8:45 am]

BILLING CODE 6712-01-P